DEPARTMENT OF THE TREASURY

Submission for OMB Review; Comment Request

March 14, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 24, 2000, to be assured of consideration.

Internal Revenue Service (IRS)

OMB Number: 1545-0132.

Form Number: IRS Form 1120X.

Type of Review: Extension.

Title: Amended U.S. Corporation Income Tax Return.

Description: Domestic corporations use Form 1120X to correct a previously filed Form 1120 or Form 1120-A. The data is used to determine if the correct tax liability has been reported.

Respondents: Business or other for-profit, Farms.

Estimated Number of Respondents/Recordkeepers: 16,699.

Estimated Burden Hours Per Respondent/Recordkeeper:

Recordkeeping—12 hr., 26 min.

Learning about the law or the form—1 hr., 26 min.

Preparing the form—3 hr., 34 min.

Copying, assembling, and sending the form to the IRS—32 min.

Frequency of Response: On occasion.

Estimated Total Reporting/Recordkeeping Burden: 300,081 hours.

OMB Number: 1545-1053.

Form Number: IRS Form 8709.

Type of Review: Extension.

Title: Exemption From Withholding on Investment Income of Foreign Governments and International Organizations.

Description: This form is used by foreign governments and international organizations, with certain types of investments in the United States, to file with withholding agents to obtain exemption from withholding under Code section 892. The withholding agent uses the information to determine the appropriate withholding, if any.

Respondents: Business or other for-profit, Farms.

Estimated Number of Respondents/Recordkeepers: 3,000.

Estimated Burden Hours Per Respondent/Recordkeeper:

Recordkeeping—13 min.

Learning about the law or the form—25 min.

Preparing the form—26 min.

Copying, assembling, and sending the form to the IRS—20 min.

Frequency of Response: On occasion.

Estimated Total Reporting/Recordkeeping Burden: 42,600 hours.

OMB Number: 1545-1516.

Form Number: IRS Form 8832.

Type of Review: Extension.

Title: Entity Classification Election.

Description: An eligible entity that chooses not to be classified under the default rules or that wishes to change its current classification must file Form 8832 to elect the classification.

Respondents: Business or other for-profit, Farms.

Estimated Number of Respondents/Recordkeepers: 5,000.

Estimated Burden Hours Per Respondent/Recordkeeper:

Recordkeeping—1 hr., 20 min.

Learning about the law or the form—1 hr., 41 min.

Preparing and sending the form to the IRS—17 min.

Frequency of Response: On occasion.

Estimated Total Reporting/Recordkeeping Burden: 16,500 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-7221 Filed 3-22-00; 8:45 am]

BILLING CODE 4830-01-U